DEPARTMENT OF TRANSPORTATION

Federal Aviation Administration

14 CFR Part 71

[Docket No. FAA-2010-0241; Airspace Docket No. 10-AGL-4]

RIN 2120-AA66

Proposed Modification of VOR Federal Airways V-82, V-175, V-191, and V-430 in the Vicinity of Bemidji, MN

AGENCY: Federal Aviation Administration (FAA), DOT.

ACTION: Notice of proposed rulemaking (NPRM).

SUMMARY: This action proposes to modify the legal description of VHF Omnidirectional Range (VOR) Federal Airways V-82, V-175, V-191, and V-430 in the vicinity of Bemidji, MN. The Bemidji (BJI) VOR, navigation aid that forms a segment of these airways has been out of service for over two years due to terrain and new construction signal interference problems and is planned for decommissioning. An airway intersection reporting point is being established in the same location as the BJI VOR to restore a navigable route structure to the area similar to what existed prior to the loss of service from the navigation aid.

DATES: Comments must be received on or before June 21, 2010.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2010-0241 and Airspace Docket No. 10-AGL-4 at the beginning of your comments. You may also submit comments through the Internet at http://www.regulations.gov.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2010-0241 and Airspace Docket No. 10-AGL-4) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2010-0241 and Airspace Docket No. 10-AGL-4.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/air_traffic/publications/airspace_amendments/.

You may review the public docket containing the proposal, any comments received and any final disposition in person in the Dockets Office (see ADDRESSES section for address and phone number) between 9 a.m. and 5 p.m., Monday through Friday, except Federal holidays. An informal docket may also be examined during normal business hours at the office of the Central Service Center, Operations Support Group, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

The Proposal

The FAA is proposing an amendment to Title 14 Code of Federal Regulations (14 CFR) part 71 to modify V-82, V-175, V-191, and V-430 in the vicinity of Bemidji, MN. The BJI VOR navigation aid, used in each of these airways, has been out of service for over two years due to excessive bends, roughness, and scalloping on all radials below 5,000 feet Mean Sea Level (MSL), and was removed from service in April 2007. The FAA had trees removed within 1,000 feet of the navigation aid, but no improvement was noted. As a result, the BJI VOR, MN, is scheduled for decommissioning on July 29, 2010.

Since V-82, V-175, V-191, and V-430 are currently not useable in the vicinity of the BJI VOR, air traffic control must vector aircraft in this area until the aircraft reaches a useable segment of the airways. To restore the navigable airway structure in the vicinity of Bemidji, MN, the FAA is proposing to establish the BLUOX fix in the same location currently depicting the BJI VOR navigation aid. Specifically, the proposed modification to V-82 and V-175 replaces the BJI VOR with an intersection point defining the BLUOX fix. The proposed modification to V-191 terminates the airway at the Grand Rapids VOR (GPZ), MN, since the modified V-430, as proposed below, would provide service to the same segments of V-191 being eliminated. Lastly, the proposed modification to V-430 reroutes the airway between BLUOX fix and Grand Forks VOR (GFK), ND, over the Thief River Falls VOR (TVF), MN. The reroute is necessary due to the GFK VOR signal not being strong enough to establish the intersection point defining the BLUOX fix between the GFK VOR and the GPZ VOR.

VOR Federal airways are published in paragraph 6010(a) of FAA Order 7400.9T signed August 27, 2009 and effective September 15, 2009, which is incorporated by reference in 14 CFR 71.1. The VOR Federal Airways listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it modifies VOR Federal Airways in the vicinity of Bemidji, MN.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9T, Airspace Designations and Reporting Points, signed August 27, 2009, and effective September 15, 2009, is amended as follows:

Paragraph 6010(a)—Domestic VOR Federal Airways

* * * * *

V-82 [Modified]

From Baudette, MN; INT Baudette 194°T (190°M) and Brainerd, MN, 331°T (328°M) radials; Brainerd; Gopher, MN; Farmington, MN; Rochester, MN; Nodine, MN; to Dells, WI.

* * * * *

V-175 [Modified]

From Malden, MO; Vichy, MO; Hallsville, MO; Macon, MO; Kirksville, MO; Des Moines, IA; Sioux City, IA; Worthington, MN; Redwood Falls, MN; Alexandria, MN; Park Rapids, MN; INT Park Rapids 003°T (359°M) and Roseau, MN, 160°T (155°M) radials; Roseau; to Winnipeg, MB, Canada. The airspace within Canada is excluded.

* * * * *

V-191 [Modified]

From Troy, IL; Decatur, IL; Roberts, IL; INT Roberts 008°T (006°M) and Joliet, IL, 067°T (065°M) radials; Northbrook, IL; Badger, WI; Oshkosh, WI; Rhinelander, WI; Ironwood, MI; Duluth, MN; Hibbing, MN; to Grand Rapids, MN.

* * * * *

V-430 [Modified]

From Cut Bank, MT, 10 miles, 74 miles 55 MSL; Harve, MT, 14 miles, 100 miles 50 MSL; Glasgow, MT; INT Glasgow 100°T (086°M) and Williston, ND, 263°T (251°M) radials, 22 miles, 33 miles 55 MSL, Williston; Minot, ND; Devils Lake, ND; Grand Forks, ND; Thief River Falls, MN; INT Thief River Falls 122°T (114°M) and Grand Rapids, MN, 292°T (286°M) radials; Grand Rapids; Duluth, MN; Ironwood, MI; Iron Mountain, MN; to Escanaba, MI.

Issued in Washington, DC, on April 29, 2010.
Paul Gallant,
Acting Manager, Airspace and Rules Group.

[FR Doc. 2010-10468 Filed 5-4-10; 8:45 am]

BILLING CODE 4910-13-P